DEPARTMENT OF COMMERCE

National Oceanic and Atmospheric Administration

RIN 0648-XA770

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee meeting to consider actions affecting New England fisheries in the exclusive economic zone (EEZ). Recommendations from this group will be brought to the full Council for formal consideration and action, if appropriate.

DATES: This meeting will be held on Friday, November 4, 2011 at 9 a.m.

ADDRESSES: The meeting will be held at the Embassy Suites Airport Hotel, 900 Bartram Avenue, Philadelphia, PA 19153; telephone: (215) 365-4500; fax: (215) 365-4803.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of the meeting is to develop goals and objectives for Amendment 6 to the Monkfish Fishery Management Plan, in which the New England and Mid-Atlantic Councils are considering the inclusion of catch shares management in the range of alternatives. The Committee, Advisory Panel and Plan Development Team (PDT) have discussed a range of issues and problems in the fishery that could be addressed in Amendment 6 and the PDT will provide a more formal problem statement at this meeting. The Committee's goals and objectives recommendations will be considered at the November meeting of the New England Council.

The Committee may also hold a closed session at the end of the meeting to discuss Advisory Panel matters.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 14, 2011.
Tracey L. Thompson,
Acting Director, Office of Sustainable Fisheries, National Marine Fisheries Service.

[FR Doc. 2011-26995 Filed 10-18-11; 8:45 am]

BILLING CODE 3510-22-P